DEPARTMENT OF ENERGY

Federal Energy Regulatory Commission

[Project No. 13318-018]

Swan Lake North Hydro LLC; Notice Reopening Comment Period

On April 24, 2024, as supplemented on October 3, 2024, Swan Lake North Hydro LLC (licensee) filed an application for amendment of the unconstructed Swan Lake North Hydroelectric Project No. 13318. The licensee proposes to modify project designs based on engineering development and geotechnical investigations. The project will be located about 11 miles northeast of the city of Klamath Falls in Klamath County, Oregon. The project will occupy federal land administered by the U.S. Bureau of Land Management and the U.S. Bureau of Reclamation.

On September 9, 2025, Commission staff issued notice of the availability of an Environmental Assessment (EA) containing Commission staff's analysis of the environmental effects of the proposed surrender. The September 9, 2025 notice established October 9, 2025, as the deadline for filing comments, motions to intervene, and protests. On November 20, 2025, the Department of Interior filed a request to extend the comment period for the EA until December 5, 2025.

The reason cited for the request for extension was the federal lapse of appropriations from October 1 through November 12, 2025 and that federal employees were on furlough and were unable to review and develop comments on the EA.

We have reviewed Interior's request and are reopening the comment period for the EA. All comments on the EA must be filed by 5:00 p.m. Eastern Time on December 5, 2025.

The Commission strongly encourages electronic filing. Please file comments using the Commission's eFiling system at http://www.ferc.gov/docs-filing/efiling.asp. Commenters can submit brief comments up to 6,000 characters, without prior registration, using the eComment system at http://www.ferc.gov/docs-filing/ecomment.asp. For assistance, please contact FERC Online Support. In lieu of electronic filing, you may submit a paper copy. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, Maryland 20852. The first page of any filing should include docket number P-13318-018.

For public inquiries and assistance with making filings such as interventions, comments, or requests for rehearing, contact the Office of Public Participation at (202) 502-6595 or OPP@ferc.gov.

For further information, contact Elizabeth Moats at 202-502-6632 or Elizabeth.OsierMoats@ferc.gov.

(Authority: 18 CFR 2.1)

Dated: December 1, 2025.
Carlos D. Clay,
Deputy Secretary.

[FR Doc. 2025-21947 Filed 12-3-25; 8:45 am]

BILLING CODE 6717-01-P